DEPARTMENT OF THE TREASURY

Submission for OMB Review; Comment Request

March 4, 2005.

The Department of the Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before April 11, 2005 to be assured of consideration.

Departmental Offices/International Affairs

OMB Number: 1505-0123.

Form Numbers: SHL—Schedule 1, SHL-Schedule 2; and other years SHLA—Schedule 1, SHLA—Schedule 2.

Type of Review: Revision.

Title: Survey of Foreign-Residents' Holdings of U.S. Securities.

Description: The survey collects information on foreign residents' holdings of U.S. securities, including selected money market instruments. The data is used in the computation of the U.S. balance of payments accounts and U.S. international investment position, in the formulation of U.S. financial and monetary policies, to satisfy 22 U.S.C. 3101, and for information on foreign portfolio investment patterns. Respondents are primarily the largest banks, securities dealers, and issuers of U.S. securities.

Respondents: Business or other for-profit, Not-for-profit institutions.

Estimated Number of Respondents/Recordkeepers: 360.

Estimated Burden Hours Per Respondent/Recordkeeper: 110 hours.

Frequency of Response: Annually.

Estimated Total Reporting/Recordkeeping Burden: 39,600 hours.

Clearance Officer: Lois K. Holland, Departmental Offices, Room 11000, 1750 Pennsylvania Avenue, NW., Washington, DC 20220, (202) 622-1563.

OMB Reviewer: Joseph F. Lackey, Jr., Office of Management and Budget, Room 10235, New Executive Office Building, Washington, DC 20503, (202) 395-7316.

Lois K. Holland,
Treasury PRA Clearance Officer.

[FR Doc. 05-4822 Filed 3-10-05; 8:45 am]

BILLING CODE 4811-16-P